DEPARTMENT OF LABOR

Employment and Training Administration

[TA-W-51,440]

ASML Albuquerque, Albuquerque, New Mexico; Notice of Negative Determination Regarding Application for Reconsideration

By application of May 17, 2003, a petitioner requested administrative reconsideration of the Department's negative determination regarding eligibility for workers and former workers of the subject firm to apply for Trade Adjustment Assistance (TAA). The denial notice applicable to workers of ASML Albuquerque, Albuquerque, New Mexico was signed on April 16, 2003, and published in the Federal Register on May 1, 2003 (68 FR 23322).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at ASML Albuquerque, Albuquerque, New Mexico engaged in activities related to customer support engineering services. The petition was denied because the petitioning workers did not produce an article within the meaning of Section 222(3) of the Act.

The petitioner alleges that layoffs at ASML Albuquerque, Albuquerque, New Mexico, were related to the acquisition of the facility by a foreign company. The petitioner states that subject facility, formerly known as Silicon Valley Group, was bought by ASML, a company with foreign production facilities. The petitioner concludes that, shortly after the acquisition of the Silicon Valley Group facilities (including an affiliated production facility in Connecticut) both facilities were shut down. The petitioner appears to be alleging that the acquiring company shifted production abroad, with plans to import this production to the U.S.

The petitioner's allegation of a shift in production and subsequent potential imports might be relevant if all other eligibility requirements for trade adjustment assistance were met. However, customer support engineering services do not meet the definition of production of an article as established in Section 222 of the Trade Act, thus the workers in this case do not meet the eligibility requirements of TAA.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 3rd day of June, 2003.
Elliott S. Kushner,
Certifying Officer, Division of Trade Adjustment Assistance.

[FR Doc. 03-15478 Filed 6-18-03; 8:45 am]

BILLING CODE 4510-30-P